DEPARTMENT OF AGRICULTURE

Forest Service

Tahoe National Forest; Sierra County, CA; Cottonwood Fire Vegetation Management Project

AGENCY: Forest Service, USDA.

ACTION: Notice of intent to prepare an Environmental Impact Statement.

SUMMARY: The USDA Forest Service, Tahoe National Forest, gives notice of the Agency's intent to prepare an Environmental Impact Statement (EIS) to disclose the environmental effects of applying registered herbicides to approximately 13,500 acres of National Forest System land. The application will reduce competition from overgrown vegetation that is adversely affecting the survival and growth of conifer seedlings on the Sierraville Ranger District. The project proposes to apply glyhosate (trade name Accord or equivalent) and triclopyr (trade name Garlon 4 or equivalent), using backpack sprayers, in the spring and summer months when herbicide treatments are most effective. The acres identified for application would be treated over a five- to seven-year time period.

The purpose of the project is to help ensure survival, and stimulate vigor and growth of sufficient numbers of conifer seedlings in order to accelerate the development of a biologically and structurally diverse forest. Following a wildfire in 1994 that destroyed much of the forest stand structure, shrub and grass have re-occupied the area, competing with conifer seedlings for limited resources. This competition is prolonging the time it will take for the native conifer forest to re-establish. Restoring the area to a conifer forest sooner will develop a more fire resistant and healthy forest in less time. Alternative, non-herbicide methods to control competing vegetation have been attempted over the past eight years, but success has been limited due to cost and inability to treat enough area. Because of this, the Forest Service believes the least impacting and most cost effective method to reduce competing vegetation is through prudent and careful application of registered herbicides.

DATES: Comments concerning the proposed action should be received by November 19, 2002. The Draft Environmental Impact Statement (DEIS) is expected to be completed in January 2003, and the Final Environmental Impact Statement (FEIS) is expected to be completed in April 2003.

ADDRESSES: Send written comments to Deborah Walker, Sierraville Ranger District, PO Box 95, Sierraville, CA 96126, or by sending electronic mail (e-mail) to deborahwalker@fs.fed.us. For further information, mail correspondence to Jeff Leach, NEPA Coordinator, Sierraville Ranger District, PO Box 95, Sierraville, CA 96126.

FOR FURTHER INFORMATION CONTACT: Questions and comments about the proposed action should be directed to Deborah Walker or Jeff Leach at the above address, or by phone at 530-994-3401.

SUPPLEMENTARY INFORMATION:

Purpose and Need for Action

In 1994, the Cottonwood Fire burned more than 46,000 acres of forest land on the Tahoe and Humboldt-Toiyabe National Forests. In 1995, the Tahoe National Forest prepared an environmental document authorizing the use of manual and mechanical release methods to accelerate conifer growth and development by controlling shrubs, grasses, and forbs. Since that time conifer seedlings have either been planted or naturally regenerated in the area. Even though this area historically supported large conifer trees, the site is now predominately occupied by shrubs, such as snowbrush and manzanita. The project area is considered a Sierra Nevada east-side pine type, where moisture is the most limiting factor in determining plant survival. Shrubs and trees currently occupy the same depth of rooting zone in the soil profile. These particular shrub species have the ability to extract soil moisture more effectively than do the trees, especially under dry conditions. This ability to extract soil water under extremely dry conditions gives shrubs a competitive advantage over young seedlings, so there is a need to control shrubs before tree mortality becomes too severe.

Proposed Action

The proposed action is to:

1. Apply the herbicides glyphosate and triclopyr to selected units in the Cottonwood burn area on a total of 13,500 acres. Treated areas would encompass less than 30% of the total burn area.

2. Include a surfactant to improve the herbicide effectiveness and a colorant to aid in identifying treated areas.

3. Use backpack sprayers to apply the registered herbicides during the spring and summer months.

4. Treat between 1,500 acres and 3,600 acres a year over a five- to seven-year period. Re-treatment may be necessary on up to one-third of the project area, depending on herbicide effectiveness.

5. Treat individual target plants uniformly over the entire area, except near stream channels, where a spot application would be used.

6. Establish a no-treatment zone along all stream channels of 25 feet on either side and around wet areas (seeps, springs, and fens) of 50 feet.

7. Avoid treating areas not productive for growing trees, areas that were unburned or lightly burned, sites that have a predominance of cheatgrass, known sensitive plant occurrences, or areas that have been selected as cover habitat for wildlife species.

Possible Alternatives

Alternatives being considered at this time include: (1) Proposed action; (2) no action alternative that would not implement the proposed action or allow for manual and mechanical release; and (3) continue with manual and mechanical release treatments exclusively. Additional alternatives to this proposal would be based on significant issues identified during the scoping process.

Responsible Official

The District Ranger, Sierraville Ranger District, Tahoe National Forest, is the responsible official making the decision and can be reached at PO Box 95, Sierraville CA 96126. As the responsible official, the District Ranger will document the decision and reasons for the decision in the Record of Decision, which will be published along with the final EIS. That decision will be subject to Forest Service appeal regulations (36 CFR part 215).

Nature of Decision To Be Made

The decision to be made is whether to implement the Cottonwood Fire Vegetation Management Project as described above, modify the proposal in response to an unresolved issue based on comments received during public scoping, or not take any action at this time.

Scoping Process

Public participation is viewed as an integral part of the environmental analysis. The Forest Service will be seeking points of dispute, debate, or disagreement from Federal, State, and local governmental agencies as well as from individuals or organizations that may be potentially interested or affected by the proposed action. A scoping letter will be mailed to persons who have expressed interest in the proposed action based on notification in the Tahoe National Forest Quarterly Schedule of Proposed Actions and by notification through a published legal notice in the Mountain Messenger, Downieville, California, and the Sierra Booster, Loyalton, California. In addition, persons who provided comment on the Cottonwood Fire Vegetation Management Environmental Assessment (2000) will be mailed a scoping letter.

Comment Requested

This notice of intent initiates the scoping process, which guides the development of the EIS. Comments submitted during the scoping process should be in writing or email, and should be specific to the proposed action. The comments should describe as clearly and completely as possible any points of dispute, debate, or disagreement the commenter has with the proposal. Once scoping letters are received, the District shall identify all potential issues, eliminate non-significant issues or those covered by another environmental analysis, identify issues to analyze in depth, develop additional alternatives to address those significant issues, and identify potential environmental effects of the proposed action as well as fully analyzed alternatives.

Early Notice of Importance of Public Participation in Subsequent Environmental Review

The draft EIS is expected to be filed with the Environmental Protection Agency (EPA) and available for public review in January 2003. EPA will publish a notice of availability of the draft EIS in the Federal Register at that time. The comment period on the draft EIS will extend for 45 days from the date the EPA notice appears in the Federal Register. At that time, copies of the draft EIS will be mailed to potentially interested and affected agencies, organizations, and individuals for their review and comment and to those who provided comment during the scoping period. It is very important that those interested in the Cottonwood Fire Vegetation Management Project participate by providing comment at that tie.

The final EIS would be completed in April 2003. In the final EIS, the Forest Service is required to respond to substantive comments received during the comment period that pertain to the environmental consequences discussed in the draft EIS, as well as applicable laws, regulations, and policies considered in making the decision regarding this proposal.

The Forest Service believes, at this early stage, it is important to give reviewers notice of several court ruling related to public participation in the environmental review process. First, reviewers of Draft Environmental Impact Statement must structure their participation in the environmental review of the proposal so that it is meaningful and alerts an agency to the reviewer's position and contentions. Vermont Yankee Nuclear Power Corp. v. NRDC, 435 U.S. 519, 553 (1978). Also, environmental objections that could be raised at the Draft Environmental Impact Statement stage, but that are not raised until after completion of the FEIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the two-week comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act of 40 CFR 1503.3 in addressing these points.

Comments received, including the names and addresses of those who comment, will be considered part of the public record on this proposal and will be available for public inspection.

Dated: October 30, 2002.
Steven T. Eubanks,
Forest Supervisor, Tahoe National Forest.

[FR Doc. 02-28051 Filed 11-4-02; 8:45 am]

BILLING CODE 3410-11-M